DEPARTMENT OF TRANSPORTATION

Federal Highway Administration

Environmental Impact Statement: Shelby County, TN

AGENCY: Federal Highway Administration (FHWA), DOT.

ACTION: Notice of Intent.

SUMMARY: The FHWA is issuing this notice to advise the public that a supplement to a Final Environmental Impact Statement will be prepared for a proposed highway project in Shelby County, Tennessee.

FOR FURTHER INFORMATION CONTACT: Walter Boyd, Field Operations Team Leader, Federal Highway Administration, 640 Grassmere Park Road, Suite 112, Nashville, Tennessee 37211, Telephone: (615) 781-5770.

SUPPLEMENTARY INFORMATION: The FHWA, in cooperation with the Tennessee Department of Transportation, the City of Memphis, and Shelby County, Tennessee, will prepare a supplement to the Final Environmental Impact Statement (EIS) for the proposed Kirby Parkway in Shelby County, Tennessee. The original EIS for the Kirby Parkway project, a new north-south route in the East Memphis area (FHWA-TN-EIS-86-02-F) was approved on August 21, 1991. The proposed route, which begins at Split Oak Drive and proceeds northward approximately 10 miles to Stage Road, would consist of improving some existing roads and some construction on new alignment. The project would provide two to three traffic lanes in each direction and either a continuous center lane or a raised median with turning lanes.

The EIS supplement will be prepared for Kirby Parkway from I-240 north to I-40. The portion of the project from Macon Road south of I-40 to Stage Road north of I-40 has been constructed and opened to traffic. A Walnut Grove Road bridge over the Wolf River has been designed and will be constructed beginning in 2005. The segment from Walnut Grove Road at the Wolf River to Macon Road, passing through Shelby Farms, has not been designed and will be reassessed to determine if a new route location farther to the west would be appropriate. This alignment shift through Shelby Farms will be considered in response to public comments and to minimize potential adverse effects. The purpose for preparing the EIS supplement is to determine whether there are new circumstances in the project area and to study modified alternative alignments to determine whether new significant impacts would occur as a result of the modification to the proposed project.

Alternatives under consideration include (1) taking no action to construct a new facility between Walnut Grove Road and Macon Road; (2) constructing a multi-lane highway on the approved location; and (3) constructing a multi-lane highway partially on the approved location and on new location through Shelby Farms. Various design options of grade, alignment, and typical section will be incorporated into and studied with the proposed build alternatives. Roadway design will be in conformance with the major road plan for Shelby County. The primary purpose of the proposed project is to relieve congestion in the East Memphis area.

Letters describing the proposed action and soliciting comments will be sent to appropriate Federal, State, and local agencies, and to private organizations and citizens who have previously expressed or are known to have interest in this proposal. Public meetings are planned for February and July of 2005. In addition, a public hearing will be held. Public notice will be given of the time and place of the meeting and hearing. The draft Supplemental EIS will be available for public and agency review and comment prior to the public hearing. No formal scoping meeting will be held.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation of Federal programs and activities apply to this program.)
Issued on: January 13, 2005.
Laurie Schroeder,
Assistant Division Administrator, Nashville, Tennessee.

[FR Doc. 05-1090 Filed 1-19-05; 8:45 am]

BILLING CODE 4910-22-P